NATIONAL SCIENCE FOUNDATION

Sunshine Act Meetings; National Science Board

The National Science Board (NSB), pursuant to NSF regulations (45 CFR part 614), the National Science Foundation Act, as amended, (42 U.S.C. 1862n-5), and the Government in the Sunshine Act (5 U.S.C. 552b), hereby gives notice of the scheduling of meetings for the transaction of NSB business as follows:

DATE AND TIME: May 9, 2017 from 8:00 a.m. to 4:30 p.m., and May 10, 2017 from 8:00 a.m. to 2:30 p.m. EDT.

PLACE: These meetings will be held at the NSF headquarters, 4201 Wilson Blvd., Arlington, VA 22230. Meetings are held in Room 1235 unless it is noted that the meeting is being held in Room 1295. All visitors must contact the Board Office (call 703-292-7000 or send an email to nationalsciencebrd@nsf.gov) at least 24 hours prior to the meeting and provide your name and organizational affiliation. Visitors must report to the NSF visitor's desk in the lobby of the 9th and N. Stuart Street entrance to receive a visitor's badge. Due to recent security changes, visitors should allot some extra time for the entrance process.

WEBCAST INFORMATION: Public meetings and public portions of meetings held in Room 1235 will be webcast. To view these meetings, go to: http://www.tvworldwide.com/events/nsf/170509 and follow the instructions. The public may listen to public committee meetings held in Room 1295. Contact the Board Office (call 703-292-7000 or send an email to nationalsciencebrd@nsf.gov) at least 24 hours prior to the meeting for dial-in information.

UPDATES: Please refer to the NSB Web site for additional information. Meeting information and schedule updates (time, place, subject matter, and status of meeting) may be found at http://www.nsf.gov/nsb/meetings/notices.jsp.

NOTICE RE MEETING TIME FLEXIBILITY: The NSB will continue its program to provide some flexibility around meeting times. After the first meeting of each day, actual meeting start and end times will be allowed to vary by no more than 15 minutes in either direction. As an example, if a 10:00 meeting finishes at 10:45, the meeting scheduled to begin at 11:00 may begin at 10:45 instead. Similarly, the 10:00 meeting may be allowed to run over by as much as 15 minutes if the Chair decides the extra time is warranted. The next meeting would start no later than 11:15.

Arrive at the NSB boardroom or check the webcast 15 minutes before the scheduled start time of the meeting you wish to observe. Members of the public are invited to provide feedback on this program. Contact: nationalsciencebrd@nsf.gov.

AGENCY CONTACT: Brad Gutierrez, bgutierr@nsf.gov, 703-292-7000.

PUBLIC AFFAIRS CONTACT: Nadine Lymn, nlymn@nsf.gov, 703-292-2490.

STATUS: Portions open; portions closed.

OPEN SESSIONS:

May 9, 2017

8:00-8:30 a.m. Plenary NSB introduction

8:30-9:15 a.m. Committee on Oversight (CO) Room 1235

8:30-9:15 a.m. Committee on External Engagement (EE) Room 1295

9:30-11:30 a.m. Committee on National Science and Engineering Policy (SEP) Room 1295

10:30-11:30 a.m. Committee on Strategy (CS) Room 1235

11:30 a.m.-12:00 p.m. Plenary

1:00-1:30 p.m. Plenary

May 10, 2017

8:00-8:35 a.m. (A&F)

10:40 a.m.-12:00 p.m. Plenary

1:00-2:30 p.m. Plenary

CLOSED SESSIONS:

May 9, 2017

1:30-2:20 p.m. (CS)

2:30-4:30 p.m. (A&F)

May 10, 2017

8:40-9:35 a.m. Plenary Executive

9:40-10:30 a.m. Plenary

MATTERS TO BE DISCUSSED:

Tuesday, May 9, 2017

Plenary Board Meeting

Open session: 8:00-8:30 a.m.

• NSB Chair's Opening Remarks

• Overview of Major Issues for Meeting

• NSF Director's Remarks

• Summary of meetings on Capitol Hill

Committee on Oversight (CO)

Open session: 8:30-9:15 a.m.

Room 1235

• Committee Chair's Opening Remarks

• Approval of February 2017 Committee Meeting Minutes

• Review of OIG Semiannual Report

• Inspector General's Update

• Presentation by Independent Auditor

• Chief Financial Officer's Update

• Chair's Closing Remarks

Committee on External Engagement (EE)

Open session: 8:30-9:15 a.m.

Room 1295

• Committee Chair's Opening Remarks

• Approval of February 2017 Committee Meeting Minutes

• Update on NSB Policy Brief Rollout

• Hosting of a Member of Congress During August Home District Work Period

• Listening Session in Conjunction with LIGO Site Visit

• Discussion of Best Practices for NSB Member Op-eds

Committee on National Science and Engineering Policy (SEP)

Open session: 9:30-11:30 a.m.

Room 1295

• Committee Chair's Opening Remarks

• Approval of Prior Meeting Minutes

• Review and Discussion of Indicators 2018 Draft Chapters

Committee on Strategy (CS)

Open session: 10:30-11:30 a.m.

Room 1235

• Committee Chair's Opening Remarks

• Approval of Prior Meeting Minutes

• Ongoing Discussion of Big Ideas:

• Convergence

• NSF INCLUDES

Plenary Board

Open session: 11:30 a.m.-12:00 p.m.

• Board Chair's Introduction of Dr. Arthur Eisenkraft, 2017 NSB Public Service Awardee

• Presentation

• Director's Introduction of Dr. John Pardon, 2017 Alan T. Waterman Awardee

• Presentation

Plenary Board

Open session: 1:00-2:30 p.m.

• Committee Chair's Opening Remarks

• Board Chair Introduction of Dr. Rita Rossi Colwell (Vannevar Bush Award)

• Presentation

• Director's Introduction of Lt. Gen. James Abrahamson, NSF Distinguished Public Service Awardee

• Presentation

Committee on Strategy (CS)

Closed session: 1:30-2:20 p.m.

• Committee Chair's Remarks

• Approval of Prior Meeting Minutes

• Update on FY 2017 Budget

• Update on FY 2018 Budget

• Update on New Administration OMB Guidance

Committee on Awards and Facilities (A&F)

Closed Session: 2:30-4:30 p.m.

• Committee Chair's Opening Remarks

• Approval of Closed February 2017 Minutes and April 2017 Teleconference Minutes

• Action Item: Regional Class Research Vessel (RCRV)

• Action Item: Antarctic Infrastructure Modernization for Science (AIMS)

• Action Item: Stampede 2 Operations and Maintenance Award

• Information Item: Status of Arecibo Observatory

• Written Information Item: National High Magnetic Field Laboratory

• Written Information Item: NEON Supplemental Proposal for Operations and Maintenance

MATTERS TO BE DISCUSSED:

Wednesday, May 10, 2017

Committee on Awards and Facilities (A&F)

Open session: 8:00-8:35 a.m.

• Committee Chair's Opening Remarks

• Approval of Open A&F Minutes for February 2017

• CY 2017 Schedule of Planned Action and Information Items

• Information Item: NSF's Possible National Center for Optical-Infrared Astronomy

Plenary Board (Executive)

Closed session: 8:40-9:35 a.m.

• Board Chair's Opening Remarks

• Approval of Prior Minutes

• Election of Executive Committee Members

• Strategic Discussion on the Board's Role as Advisor to Congress and the President and with future Budget Requests

Plenary Board

Closed session: 9:40-10:30 a.m.

• Board Chair's Opening Remarks

• Approval of Closed February Minutes

• Closed Committee Reports

• Vote: Stampede 2—Operations and Maintenance

• Vote: Regional Class Research Vessel

• Vote: Antarctic Infrastructure Modernization for Science

• Strategic Discussion on the Board's Role as Advisor to Congress and the President and with Future Budget Requests, continued.

Plenary Board

Open session: 10:40 a.m.-12:00 p.m.

• Board Chair's Opening Remarks

• Discussion of the Skilled Technical Workforce

• Director's Introduction of Dr. Baratunde Cola, 2017 Alan T. Waterman Awardee

• Presentation

Plenary Board

Open Session: 1:00-2:30 p.m.

• Board Chair's Introduction of Dr. Lance Bush, for the 2017 NSB Public Service Awardee, the Challenger Center

• Presentation

• Chair's Opening Remarks

• Approval of Prior Minutes

• NSF Director's Remarks

• Open Committee Reports

• Vote: Executive Committee Annual Report

• NSB Chair's Closing Remarks

MEETING ADJOURNS: 2:30 p.m.

Chris Blair,
Executive Assistant, National Science Board Office.

[FR Doc. 2017-09197 Filed 5-3-17; 11:15 am]

BILLING CODE 7555-01-P